OFFICE OF PERSONNEL MANAGEMENT

5 CFR Part 960

RIN 3206-AJ68

Federal Executive Boards

AGENCY: Office of Personnel Management.

ACTION: Proposed rule.

SUMMARY: The Office of Personnel Management (OPM) is proposing to revise its regulations governing Federal Executive Boards. The proposed regulations are intended to make the regulations concerning the Boards consistent with the current OPM structure and not to make substantive changes.

DATES: Comments must be submitted on or before January 24, 2003.

ADDRESSES: Send or deliver written comments to Paula L. Bridgham, Director for Federal Executive Board Operations U.S. Office of Personnel Management, Room 5524, 1900 E Street, NW, Washington, DC 20415: (FAX: (202) 606-3350 or e-mail: plbridgh@opm.gov).

FOR FURTHER INFORMATION CONTACT: Paula L. Bridgham, Director for Federal Executive Board Operations, U.S. Office of Personnel Management, (202) 606-1000; FAX: (202) 606-3350 or e-mail: plbridgh@opm.gov.

SUPPLEMENTARY INFORMATION: The Office of Personnel Management (OPM) is proposing to revise its current regulations concerning Federal Executive Boards. The purpose of this revision to part 960 is not to make substantive changes but, rather, to make part 960 more readable and consistent with current OPM structure. For example, we have deleted or revised repetitive and duplicative sections, updated titles and locations of agency officials, and made other simplifying changes.

Regulatory Flexibility Act

I certify that these regulations will not have a significant economic impact on a substantial number of small entities because the effects are limited primarily to federal employees and other entities doing business with OPM.

Executive Order 12866, Regulatory Review

This rule has been reviewed by the Office of Management and Budget in accordance with Executive Order 12866.

List of Subjects in 5 CFR Part 960

Organization and functions (Government agencies).

Office of Personnel Management.
Kay Coles James,
Director.

Accordingly, OPM is proposing to revise part 960 of title 5 of the Code of Federal Regulations as follows:

PART 960—FEDERAL EXECUTIVE BOARDS

Sec.
960.101 Definitions.
960.102 What is the authority and status for Federal Executive Boards?
960.103 Where are Federal Executive Boards located?
960.104 Who are members of Federal Executive Boards?
960.105 How are Federal Executive Boards organized?
960.106 What is the Office of Personnel Management's leadership role?
960.107 What are the authorized activities of Federal Executive Boards?
960.108 Are there additional rules and directives for Federal Executive Boards?

Authority: Memorandum of the President for Heads of Departments and Agencies (November 10, 1961).

§ 960.101 Definitions.

For purposes of this part:

The term Director means the Director of the United States Office of Personnel Management.

The term Executive agency means a department, agency, or independent establishment in the Executive Branch.

The term metropolitan area means a geographic zone surrounding a major city, as defined by the Director.

The term principal area officer means, with respect to an Executive agency, the senor official of the Executive agency who is located in a metropolitan area and who has no superior official within that metropolitan area other than in the Regional Office of the Executive agency. Where an Executive agency maintains facilities of more than one bureau or other subdivision within the metropolitan area, and where the heads of those facilities are in separate chains of command within the Executive agency, then the a may have more than one principal area officer.

The term principal regional officer means, with respect to an Executive agency, the senior official in a Regional Office of the Executive agency.

The term special representative means, with respect to an Executive agency, an official who is not subject to the supervision of a principal regional officer or a principal area officer and who is specifically designated by the head of the Executive agency to serve as the personal representative of the head of the Executive agency.

§ 960.102 What is the authority and status for Federal Executive Boards?

Federal Executive Boards are established by direction of the President in order to strengthen the management and administration of Executive Branch activities in selected centers of field operations. Federal Executive Boards are organized and function under the authority of the Director.

§ 960.103 Where are Federal Executive Boards located?

There are Federal Executive Boards in the following metropolitan areas: Albuquerque-Santa Fe, Atlanta, Baltimore, Boston, Buffalo, Chicago, Cincinnati, Cleveland, Dallas-Fort Worth, Denver, Detroit, Honolulu, Houston, Kansas City, Los Angeles, Miami, Minneapolis-St. Paul, New Orleans, New York, Newark, Oklahoma City, Philadelphia, Pittsburgh, Portland, St. Louis, San Antonio, San Francisco, and Seattle. The Director may dissolve, merge, divide or expand any of the existing Federal Executive Boards, or establish new Federal Executive Boards.

§ 960.104 Who are members of Federal Executive Boards?

(a) Presidential Directive. The President directed the heads of agencies to arrange for the leading officials of their respective agencies' field activities to participate personally in the work of Federal Executive Boards.

(b) Members. The head of every Executive agency shall designate, by title of office, the principal regional officer, if any, and the principal area officer or officers, if any, who shall represent the agency on each Federal Executive Board; and by name and title of office, the special representative, if any, who shall represent the head of the agency on each Federal Executive Board. Such designations shall be made in writing and transmitted to the Director, and may be transmitted through the Chairs of the Federal Executive Boards. Designations may be amended at any time by the head of the Executive agency.

(c) Alternate Members. Each member of a Federal Executive Board may designate an alternate member, who shall attend meetings and otherwise serve in the absence of the member. An alternate member shall be the deputy or principal assistant to the member or another senior official of the member's organization.

§ 960.105 How are Federal executive Boards organized?

(a) Bylaws. A Federal Executive Board shall adopt bylaws or other rules for its internal governance, subject to the approval of the Director. Such bylaws and other rules may reflect the particular needs, resources, and customs of each Federal Executive Board, provided that they are not inconsistent with the provisions of this part or with the directives of the President or the Director. To the extent that such bylaws and other rules conflict with these provisions or the directives of the President or the Director, such bylaws and other rules shall be null and void.

(b) Chair. Each Federal Executive Board shall have a Chair, who shall be elected by the members from among their number, and who shall serve for a term of office not to exceed 1 year.

(c) Staff. As they deem necessary, members shall designate personnel from their respective organizations to serve as the staff or participate in the activities of the Federal Executive Board. Other personnel may serve as staff of a Federal Executive Board only with the approval of the Director.

(d) Unless otherwise expressly provided by law, by directive of the President or the Director, or by the bylaws of the Federal Executive Board, every committee, subcommittee, council, and other sub-unit of the Federal Executive Board, and every affiliation of the Federal Executive Board with external organizations, shall expire upon expiration of the term of office of the Chair. Such a committee, subcommittee, council, other sub-unit, or affiliation may be reestablished or renewed by affirmative action of the Federal Executive Board.

(e) Board Actions. A Federal Executive Board shall take actions only with the approval of a majority of the members thereof. This authority may not be delegated. All activities of a Federal Executive Board shall conform to applicable laws and shall reflect prudent uses of official time and funds.

§ 960.106 What is the Office of Personnel Management's leadership role?

(a) Role of the Director. The Director is responsible to the President for the organizational and programmatic activities of the Federal Executive Boards. The Director shall direct and oversee the operations of Federal Executive Boards consistent with law and with the directives of the President. The Director may consult with the Chairs, members, and staff of the Federal Executive Boards.

(b) Communications. The Office of Personnel Management shall maintain a channel of communication from the Director through the Director for Federal Executive Board Operations to the Chairs of the Federal Executive Boards. Any Executive agency may communicate with the Director and wit the Federal Executive Boards. Chairs of Federal Executive Boards may communicate with the Director on recommendations for action at the national level, on significant management problems that cannot be addressed at the local level, and on other matters of interest to the Executive Branch.

(c) Reports. Each Federal Executive Board shall transmit to the Director an annual strategic plan and an annual report, signed by the Chair, describing the significant programs and activities of the Federal Executive Board in each fiscal year. Each strategic plan shall set forth the proposed general agenda for the succeeding fiscal year. The strategic plan shall be subject to the approval of the Director. Each annual report shall describe and evaluate the preceding fiscal year's activities. Annual reports shall be submitted on or before January 1 and annual strategic plans shall be submitted on or before July 1. In addition, members of Federal Executive Boards shall keep the headquarters of their respective Executive agencies informed of their activities by timely reports through appropriate agency channels.

(d) Conferences. The Director may convene regional and national conferences of Chairs and other representatives of Federal Executive Boards.

§ 960.107 What are the authorized activities of Federal Executive Boards?

(a) Each Federal Executive Board serves as an instrument of outreach for the national headquarters of the Executive Branch in the metropolitan area. Each Federal Executive Board shall consider common management and program problems and develop cooperative arrangements that promote the general objectives of the Government and of the several Executive agencies in the metropolitan area. Efforts of members, alternates, and staff in those areas shall be made with the guidance and approval of the Director; within the range of the delegated authority and discretion they hold; within the resources available; and consistent with the missions of the Executive agencies involved.

(b) Each Federal Executive Board shall:

(1) Provide a forum for the exchange of information between Washington and the field, and among field elements in the metropolitan area, about programs and management methods and issues;

(2) Develop local coordinated approaches to the development and operation of programs that have common characteristics;

(3) Communicate management initiatives and other concerns from Washington to the field to achieve mutual understanding and support; and

(4) Refer problems that cannot be solved locally to the national level.

(c) Subject to the guidance of the Director, the Federal Executive Boards shall provide local leadership and coordination for:

(1) Presidential initiatives on management reforms; personnel initiatives of the Office of Personnel Management; programs of the Office of Management and Budget and the General Services Administration;

(2) The local Combined Federal Campaign, under the direction of the Director;

(3) The sharing of technical knowledge and resources in finance, internal auditing, personnel management, information technology, interagency use of training and meeting facilities, and similar commonly beneficial activities;

(4) The pooling of resources to provide, as efficiently as possible, and at the least possible cost to the taxpayers, common services such as cardiopulmonary resuscitation (CPR) training, preventive health programs, child care and elder care activities, blood donor programs, and savings bond drives;

(5) Encouragement of employee initiative and better performance through special recognition and other incentive programs, and provision of assistance in the implementation and upgrading of performance management systems;

(6) Emergency operations, such as under hazardous weather conditions and natural or man-made disasters; responding to blood donation needs; and communicating related leave policies;

(7) Recognition of the service of American Veterans and dissemination of information relating to programs and benefits available for veterans in the Federal service; and

(8) Other programs, projects, and operations as approved by the Director.

(d) The Office of Personnel Management shall advise Federal Executive Boards on activities in the areas of performance appraisal and incentives, interagency training programs, the educational development of Government employees, improvement of labor-management relations, equal employment opportunity, the Federal Women's Program, the Federal Equal Opportunity Recruitment Program, the Hispanic Employment Program, the Veterans Employment Program, and selective placement programs for individuals with disabilities.

(e) The Director may direct one or more of the Federal Executive Boards to address specific programs or undertake cooperative activities.

§ 960.108 Are there additional rules and directives for Federal Executive Boards?

The Director may issue additional rules, guidance, and directives to the Federal Executive Boards.

[FR Doc. 02-29848 Filed 11-22-02; 8:45 am]

BILLING CODE 6325-46-M